Proclamation 7437 of May 9, 2001

Mother's Day, 2001

By the President of the United States of America

A Proclamation

No matter what direction life takes us, a mother's love and guidance are a tremendous blessing that help us to grow up as stable, responsible, and caring individuals. As nurturers, teachers, and protectors, mothers' unconditional affection helps their children to blossom into mature adults. In partnership with fathers, mothers play a critical role in building healthy families.

Anna M. Jarvis is credited with influencing the Congress in 1914 to establish an official Mother's Day as a tribute to her beloved mother and to all mothers. She conceived of the day as a time when children could formally demonstrate respect for their mothers and reinforce family bonds.

Mothers who teach us right from wrong and to love our neighbors merit our deepest gratitude and appreciation. Beyond their more traditional role in rearing children, many mothers also face responsibilities outside the home as members of the workforce. At the same time, they may be caring not only for their biological or adopted children but also for stepchildren or foster children.

Many American families are now headed solely by women, and these women shoulder enormous responsibilities. For the good of their families and our Nation, we must strive to provide support and assistance to those mothers, such as, opportunities for training and employment; early childhood education for their young ones; and safe, affordable, and high-quality childcare. But fathers must also remain committed and involved in the lives of their children. By fulfilling their financial and nurturing responsibilities, fathers help ensure the well-being of their children and ease the burden on those women who carry the primary responsibility of caring for their families.

Whatever their circumstances, mothers demonstrate daily how their devotion, strength, and wisdom make all the difference in the lives of their children. To honor mothers, the Congress, by a joint resolution approved May 8, 1914 (38 Stat. 770), has designated the second Sunday in May each year as “Mother's Day” and requested the President to call for its appropriate observance.

NOW, THEREFORE, I, GEORGE W. BUSH, President of the United States of America, by virtue of the authority vested in me by the Constitution and laws of the United States, do hereby proclaim May 13, 2001, as Mother's Day. I encourage all Americans to honor the importance of mothers and to celebrate how their love and devotion are crucial to the well-being of children, families, and our society.

IN WITNESS WHEREOF, I have hereunto set my hand this ninth day of May, in the year of our Lord two thousand one, and of the Independence of the United States of America the two hundred and twenty-fifth.

B

[FR Doc. 01-12080

Filed 5-10-01; 8:45 am]

Billing code 3195-01-P